ENVIRONMENTAL PROTECTION AGENCY

[FRL-7410-6]

Agency Information Collection Activities: Proposed Collection; Comment Request; Approval of State Coastal Nonpoint Pollution Control Programs; Extension of Comment Period

AGENCY: Environmental Protection Agency (EPA).

ACTION: Notice; extension of comment period.

SUMMARY: In compliance with the Paperwork Reduction Act (44 U.S.C. 3501 et seq.), on October 25, 2002, EPA published a notice in the Federal Register (67 FR 65563) announcing that EPA is planning to submit the following continuing Information Collection Request (ICR) to the Office of Management and Budget (OMB): Approval of State Coastal Nonpoint Pollution Control Programs, EPA ICR Number 1569.05, OMB Control Number 2040-0153, expiring on April 30, 2003. This notice extends the comment period 30 days to December 26, 2002, to solicit comments on the proposed information collection.

DATES: Comments must be submitted on or before December 26, 2002.

ADDRESSES: Comments should be sent to, and copies of the ICR may be obtained without charge from, the Nonpoint Source Control Branch, Assessment and Watershed Protection Division (4503-T), U.S. Environmental Protection Agency, 1200 Pennsylvania Avenue, NW., Washington, DC. 20460.

FOR FURTHER INFORMATION CONTACT: Stacie Craddock at EPA by phone at (202) 566-1204, by fax at (202) 566-1545, by email at craddock.stacie@epa.gov, or download a copy of the ICR off the Internet at http://www.epa.gov/icr and refer to EPA ICR No. 1569.05.

Dated: November 13, 2002.
Robert H. Wayland III,
Director, Office of Wetlands, Oceans, and Watersheds.

[FR Doc. 02-29476 Filed 11-19-02; 8:45 am]

BILLING CODE 6560-50-P